DEPARTMENT OF LABOR

Employment and Training Administration

[TA-W-50,834 and TA-W-50,834B]

TSI Graphics, Inc., Effingham, Illinois, Including an Employee of TSI Graphics, Inc. Located in Los Angeles, California; Amended Certification Regarding Eligibility To Apply for Worker Adjustment Assistance

In accordance with section 223 of the Trade Act of 1974 (19 U.S.C. 2273) the Department of Labor issued a Certification of Eligibility to Apply for Worker Adjustment Assistance on April 8, 2003, applicable to workers of TSI Graphics, Inc., Effingham, Illinois. The notice was published in the Federal Register on April 24, 2003 (68 FR 20177).

At the request of the State agency, the Department reviewed the certification for workers of the subject firm. New information shows that worker separations occurred involving an employee of the Effingham, Illinois facility of TSI Graphics, Inc. located in Los Angeles, California. This employee provided sales services supporting the production of textbook color work/graphics as disk-to-plate files at the Effingham, Illinois location of the subject firm.

Based on these findings, the Department is amending this certification to include an employee of the Effingham, Illinois facility of TSI Graphics, Inc., located in Los Angeles, California.

The intent of the Department's certification is to include all workers of TSI Graphics, Inc. who were adversely affected by increased imports.

The amended notice applicable to TA-W-50,834 is hereby issued as follows:

All workers of TSI Graphics, Inc., Effingham Illinois (TA-W-50,834), including an employee of TSI Graphics, Inc., Effingham, Illinois, located in Los Angeles, California (TA-W-50,834B), who became totally or partially separated from employment on or after February 5, 2002, through April 8, 2005, are eligible to apply for adjustment assistance under section 223 of the Trade Act of 1974.

Signed at Washington, DC this 13th day of January, 2004.
Richard Church,
Certifying Officer, Division of Trade Adjustment Assistance.

[FR Doc. E4-139 Filed 1-27-04; 8:45 am]

BILLING CODE 4510-13-P